DEPARTMENT OF JUSTICE

Notice of Lodging of Consent Decree Pursuant to Comprehensive Environmental Response, Compensation and Liability Act

Notice Is Hereby Given That On March 30, 2009, A Proposed Consent Decree in United States v. Massachusetts Department of Conservation and Recreation, et al., Civil Action No. 1:09-cv-117-JD, was lodged with the United States District Court for the District of New Hampshire.

The proposed Consent Decree will settle the United States' claims on behalf of the U.S. Environmental Protection Agency (“EPA”) brought against defendants Massachusetts Department of Conservation and Recreation and Massachusetts State Police (collectively referred to as “Settling Defendants”) pursuant to Sections 106 and 107 of the Comprehensive Environmental Response, Compensation, and Liability Act (“CERCLA”), 42 U.S.C. 9606 and 9607, with respect to the Beede Waste Oil Superfund Site in Plaistow, New Hampshire.

Pursuant to the Consent Decree, the Massachusetts State Police will pay $2,322,316.75 toward financing the work at the Site. In addition, the Massachusetts State Police will pay $188,423.39 directly to EPA's Beede Waste Oil Superfund Site Special Account. The Massachusetts Department of Conservation and Recreation is a de minimis party at the Site and shall pay $344,626.21 toward financing the work at the Site.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. Massachusetts Department of Conservation and Recreation, et al., Civil Action No. 1:09-cv-117-JD, D.J. Ref. 90-11-3-07039/12. Commenters may request an opportunity for a public meeting in the affected area, in accordance with Section 7003(d) of RCRA, 42 U.S.C. 6973(d).

The proposed Consent Decree may be examined at the Office of the United States Attorney, District of New Hampshire, 53 Pleasant Street, Concord, New Hampshire 03301, and at the United States Environmental Protection Agency, Region I, 1 Congress Street, Suite 1100, Boston, Massachusetts 02114-2023. During the public comment period, the proposed Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy by mail from the Consent Decree Library, please enclose a check in the amount of $10.00 ($0.25 per page reproduction cost) payable to the United States Treasury or, if requesting by e-mail or fax, forward a check in that amount to the Consent Decree Library at the stated address.

Maureen Katz,
Assistant Chief, Environmental Enforcement Section, Environment and Natural Resources Division.

[FR Doc. E9-7887 Filed 4-7-09; 8:45 am]

BILLING CODE 4410-15-P